DEPARTMENT OF AGRICULTURE

Natural Resources Conservation Service

Task Force on Agricultural Air Quality

AGENCY: Natural Resources Conservation Service, USDA.

ACTION: Notice of meeting.

SUMMARY: The Agricultural Air Quality Task Force (AAQTF) will meet to continue discussions on critical air quality issues in relation to agriculture. Special emphasis will be placed on obtaining a greater understanding about the relationship between agricultural production and air quality. The meeting is open to the public and a draft agenda of the meeting is attached.

EFFECTIVE DATES: The meeting will convene on Wednesday, March 10, 2004, at 8:30 a.m., and continue until 5 p.m.; resume Thursday, March 11, 2004, from 8:15 a.m. to 4:30 p.m. Individuals with written materials, and those who have requests to make oral presentations, should contact the Natural Resources Conservation Service (NRCS), at the address below, on or before February 28, 2004.

ADDRESSES: The meeting will be held at the Sheraton Imperial Hotel, Page Road, Research Triangle Park, North Carolina 27709; telephone: (919) 941-5050. Written material and requests to make oral presentations should be sent to Elvis Graves, Environmental Protection Agency, 109 T.W. Alexander Drive, Mail Code C504-03, Research Triangle Park, North Carolina 27711.

FOR FURTHER INFORMATION, CONTACT: Questions or comments should be directed to Elvis Graves, acting Designated Federal Official; telephone: (919) 541-5436; fax: (919) 541-0072; e-mail: elvis.graves@usda.gov or graves.elvis@epa.gov.

SUPPLEMENTARY INFORMATION: Notice of this meeting is given under the Federal Advisory Committee Act, 5 U.S.C. App. 2. Additional information about the AAQTF, including any revised agendas for the March 10 and 11, 2004, meeting that occur after this Federal Register notice is published, may be found on the World Wide Web at http://aaqtf.tamu.edu.

Draft Agenda of the March 10 and 11, 2004, Meeting of the AAQTF

Welcome to North Carolina;

Local and NRCS officials;

Discussion of December Minutes;

Presentation/Discussion of Documents to be Approved by Conclusion of Meeting;

Subcommittee Presentations;

Emerging Issues Committee Report;

Research Committee Report;

Policy Committee Report;

Education/Technology Transfer Committee Report;

Local Research Presentations;

North Carolina State University—Field Research;

PM-NAAQS—Air Quality Impacts from Agriculture;

PM—Implementation Issues;

Emerging Technologies to Address Air Quality;

EPA and Industry Compliance Agreement—Update;

NC GreenPower Initiative;

Next Meeting, Time/Place;

Public Input (Time will be reserved before lunch and at the close of each daily session to receive public comment. Individual presentations will be limited to 5 minutes).

Procedural

This meeting is open to the public. At the discretion of the Chair, members of the public may give oral presentations during the meeting. Persons wishing to make oral presentations should notify Mr. Graves no later than February 27, 2004. If a person submitting material would like a copy distributed to each member of the committee in advance of the meeting, that person should submit 30 copies to Elvis Graves no later than March 1, 2004.

Information on Services for Individuals With Disabilities

For information on facilities or services for individuals with disabilities, or to request special assistance at the meeting, contact Elvis Graves.

USDA prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at (202) 720-2000 (voice and TDD). The USDA is an equal opportunity provider and employer.

Signed in Washington, DC, on February 9, 2004.
Bruce I. Knight,
Chief, Natural Resources Conservation Service.

[FR Doc. 04-3457 Filed 2-17-04; 8:45 am]

BILLING CODE 3410-16-P